FEDERAL ELECTION COMMISSION

Sunshine Act Meetings

FEDERAL REGISTER CITATION OF PREVIOUS ANNOUNCEMENT: 89 FR 105048.

PREVIOUSLY ANNOUNCED TIME AND DATE OF THE MEETING: Thursday, January 9, 2025, at 10:00 a.m.

CHANGES IN THE MEETING: The meeting was rescheduled for Tuesday, January 14, 2025, at 10:00 a.m.

CONTACT PERSON FOR MORE INFORMATION: Judith Ingram, Press Officer. Telephone: (202) 694-1220.

(Authority: Government in the Sunshine Act, 5 U.S.C. 552b)

Vicktoria J. Allen,
Deputy Secretary of the Commission.

[FR Doc. 2025-00017 Filed 1-2-25; 11:15 am]

BILLING CODE 6715-01-P